DEPARTMENT OF ENERGY

48 CFR Parts 904, 952, and 970

RIN 1991-AB42

Acquisition Regulation: Security Amendments To Implement Executive Order 12829, National Industrial Security Program

AGENCY: Department of Energy (DOE).

ACTION: Final rule.

SUMMARY: The Department of Energy (DOE) is adopting as final without change an Interim Final Rule amending the Department of Energy Acquisition Regulation (DEAR) to ensure a uniform and simplified security system for contractors and others requiring access authorization for classified national security or restricted atomic energy information. The Final Rule also adopts the provision in the Interim Final Rule which allows the Secretary of Energy to waive the prohibition on award of a national security contract to an entity controlled by a foreign government if an environmental restoration requirement is involved.

DATES: This rule was effective May 28, 2002 pursuant to the interim final rule published March 28, 2002.

FOR FURTHER INFORMATION CONTACT: Richard B. Langston, Office of Procurement and Assistance Policy (ME-61), 202-586-8247; richard.langston@pr.doe.gov.

SUPPLEMENTARY INFORMATION: DOE is adopting as final the Interim Final Rule published on March 28, 2002, at 67 FR 14873 amending the DEAR to implement Executive Order 12829, National Industrial Security Program (January 6, 1993), and Section 828 of the National Defense Authorization Act for Fiscal Year 1997, and to bring the DEAR into conformance with existing practices.

Background

Executive Order 12829 requires a uniform system for classifying, safeguarding, and declassifying national security information. The Federal agencies are adopting the National Industrial Security Program as the uniform Federal industrial security program within the limitations of their separate statutory requirements. Among the more significant features of the program is the use of a Standard Form 328, Certificate Pertaining to Foreign Interests, to gather information relative to foreign ownership, control or influence. Previously, DOE used a separate questionnaire of its own with more and somewhat different questions. Now all agencies will collect the same information. This feature will result in the greatest savings for both contractors and Federal agencies because agencies will accept each others' clearances on a reciprocal basis, in most circumstances. The Final Rule makes changes to the DEAR to bring it into conformance with the new program.

The Final Rule also includes a provision (revised section 904.7102 of the DEAR) to allow the Secretary of Energy to waive a prohibition on award of a national security contract to an entity controlled by a foreign government if an environmental restoration requirement is involved. Section 2536(b)(1)(B) of title 10 U.S.C. provides waiver authority for a contract for environmental restoration, remediation, or waste management at a DOD or DOE facility. For such a contract, the prohibition on award of a contract under a national security program to an entity controlled by a foreign government that requires access to a proscribed category of information to perform the contract may be waived only if the Secretary concerned determines that: (1) A waiver will advance the environmental restoration, remediation, or waste management objectives of the cognizant Department; (2) a waiver will not harm the national security interests of the United States; and (3) the entity to which the contract is to be awarded is controlled by a foreign government with which the cognizant Secretary has authority to exchange Restricted Data under section 144.c. of the Atomic Energy Act of 1954 (42 U.S.C. 2164(c)).

DOE invited comments from the public, which were to be submitted on or before April 29, 2002. No comments were received. DOE has determined that no changes are needed to the Interim Final Rule and adopts the DEAR amendments as final without change.

Issuance of this Final Rule has been approved by the Office of the Secretary of Energy.

List of Subjects in 48 CFR Parts 904, 952 and 970

Government procurement.

Issued in Washington, DC, on December 20, 2002.
Richard H. Hopf,
Director, Office of Procurement and Assistance Management, OMBE, Department of Energy.
Robert C. Braden, Jr.,
Director, Office of Procurement and Assistance Management, National Nuclear Security Administration.

For the reasons set forth in the preamble, the interim final rule amending 10 CFR Parts 904, 952, and 970 which was published at 67 FR 14873 on March 28, 2002, is adopted as a final rule without change.

[FR Doc. 02-32994 Filed 12-31-02; 8:45 am]

BILLING CODE 6450-01-P